DEPARTMENT OF AGRICULTURE

Food and Nutrition Service

7 CFR Part 271 and 273

[FNS-2023-0058]

RIN 0584-AF01

Supplemental Nutrition Assistance Program: Program Purpose and Work Requirement Provisions of the Fiscal Responsibility Act of 2023

AGENCY: Food and Nutrition Service (FNS), USDA

ACTION: Proposed rule; extension of comment period.

SUMMARY: The U.S. Department of Agriculture (USDA) Food and Nutrition Service is extending the public comment period on the proposed rule, “Supplemental Nutrition Assistance Program: Program Purpose and Work Requirement Provisions of the Fiscal Responsibility Act of 2023,” which was published in the Federal Register on April 30, 2024. This action extends the public comment period from May 30, 2024, to June 14, 2024, to give the public additional time to review the proposed rule.

DATES: The comment period for the proposed rule published April 30, 2024, at 89 FR 34340, is extended. To be assured of consideration, comments on this proposed rule must be received by the Food and Nutrition Service on or before June 14, 2024.

ADDRESSES: The Food and Nutrition Service, USDA, invites interested persons to submit written comments on this proposed rule. Comments may be submitted in writing by one of the following methods:

• Federal eRulemaking Portal: Go to http://www.regulations.gov. Follow the online instructions for submitting comments.

• Mail: Send comments to Food and Nutrition Service, P.O. Box 9233, Reston, Virginia 20195. Email: SNAPCPBRules@usda.gov. Phone: (703) 305-2022.

• Website: Go to http://www.regulations.gov. Follow the online instructions for submitting comments.

• E-Mail: Send comments to SNAPCPBRules@usda.gov. Include Docket ID Number FNS-2023-0058, “Supplemental Nutrition Assistance Program: Program Purpose and Work Requirement Provisions of the Fiscal Responsibility Act of 2023” in the subject line of the message.

• All written comments submitted in response to this proposed rule and regulatory impact analysis will be included in the record and will be made available to the public. Please be advised that the substance of the comments and the identity of the individuals or entities submitting the comments will be subject to public disclosure. FNS will make the written comments publicly available on the internet via http://www.regulations.gov.

FOR FURTHER INFORMATION CONTACT: Catrina Kamau, Chief, Certification Policy Branch, Program Development Division, Food and Nutrition Service, 1320 Braddock Place, Alexandria, Virginia 22314. Email: SNAPCPBRules@usda.gov. Phone: (703) 305-2022.

SUPPLEMENTARY INFORMATION: The Food and Nutrition Service is extending the public comment period on the proposed rule, “Supplemental Nutrition Assistance Program: Program Purpose and Work Requirement Provisions of the Fiscal Responsibility Act of 2023,” which published in the Federal Register on April 30, 2024, at 89 FR 34340. This action extends the public comment period to June 14, 2024, to allow the public additional time to review and comment on the proposed rule.

Cynthia Long,
Administrator, Food and Nutrition Service.

[FR Doc. 2024-11205 Filed 5-21-24; 8:45 am]

BILLING CODE 3410-30-P